DEPARTMENT OF TRANSPORTATION

Federal Aviation Administration

14 CFR Part 39

[Docket No. 97-NM-313-AD; Amendment 39-12875; AD 94-09-11 R1]

RIN 2120-AA64

Airworthiness Directives; Raytheon Model BAe.125 Series 1000A Airplanes and Model Hawker 1000 Airplanes

AGENCY: Federal Aviation Administration, DOT.

ACTION: Final rule; rescission.

SUMMARY: This amendment rescinds an existing airworthiness directive (AD), applicable to certain Raytheon Model BAe.125 Series 1000A Airplanes and Model Hawker 1000 airplanes. That AD currently requires inspections of the thrust reverser system for integrity, and correction of any discrepancy found. The requirements of that AD were intended to prevent a significant reduction in the controllability of the airplane due to an in-flight deployment of a thrust reverser. Since the issuance of that AD, the FAA has issued a separate AD that requires the accomplishment of modifications that terminate the requirements of the existing AD.

DATES: Effective September 3, 2002.

FOR FURTHER INFORMATION CONTACT: Jeff Pretz, Aerospace Engineer, Systems and Propulsion Branch, ACE-116W, FAA, Wichita Aircraft Certification Office, 1801 Airport Road, Room 100, Mid-Continent Airport, Wichita, Kansas 67209; telephone (316) 946-4153; fax (316) 946-4407.

SUPPLEMENTARY INFORMATION: A proposal to amend part 39 of the Federal Aviation Regulations (14 CFR part 39) to rescind an airworthiness directive (AD) that is applicable to certain Raytheon Model BAe.125 Series 1000A and Hawker 1000 series airplanes was published in the Federal Register on September 10, 1999 (64 FR 49112). That action proposed the rescission of AD 94-09-11, amendment 39-8900 (59 FR 22125, April 29, 1994), in order to prevent operators from performing an unnecessary action.

Comments

Interested persons have been afforded an opportunity to participate in the making of this amendment. No comments were received in response to the proposal.

Conclusion

After careful review of the available data, the FAA has determined that air safety and the public interest require the rescission of the rule as proposed, with the exception of the change to applicability.

Explanation of Change to Applicability

The FAA has revised the applicability of this final rule to identify model designations as published in the most recent type certificate data sheet for the affected models.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

The Rescission

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8900.

94-09-11 R1 Raytheon Aircraft Company: Amendment 39-12875. Docket No. 97-NM-313-AD. Rescinds AD 94-09-11, Amendment 39-8900.

Applicability: Model BAe.125 Series 1000A Airplanes and Model Hawker 1000 airplanes; as listed in Raytheon Corporate Jets Service Bulletin SB 78-12, dated January 4, 1994, certificated in any category.

This rescission is effective September 3, 2002.

Issued in Renton, Washington, on August 26, 2002.
Vi L. Lipski,
Manager, Transport Airplane Directorate, Aircraft Certification Service.

[FR Doc. 02-22176 Filed 8-30-02; 8:45 am]

BILLING CODE 4910-13-P